DEPARTMENT OF TRANSPORTATION

Federal Aviation Administration

14 CFR Part 71

[Docket No. FAA-2025-5139; Airspace Docket No. 24-ANM-123]

RIN 2120-AA66

Establishment of Class D and Modification of Class E Airspace; Bend Municipal Airport, Bend, OR

AGENCY: Federal Aviation Administration (FAA), DOT.

ACTION: Notice of proposed rulemaking (NPRM).

SUMMARY: This action proposes to establish a Class D airspace area, modify the Class E airspace area designated as a surface area, modify the Class E airspace area designated as an extension to a Class D or Class E surface area, modify the Class E airspace area extending upward from 700 feet above the surface, and remove the Class E airspace area extending upward from 1,200 feet above the surface at Bend Municipal Airport, Bend, OR, to support the construction of an airport traffic control tower at the airport. Additionally, this action proposes to make administrative amendments that would update the airport's legal descriptions. These actions would support the safety and management of visual flight rules (VFR) and instrument flight rules (IFR) operations at the airport.

DATES: Comments must be received on or before April 16, 2026.

ADDRESSES: Send comments identified by FAA Docket No. FAA-2025-5139 and Airspace Docket No. 24-ANM-123 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11K, Airspace Designations and Reporting Points, and subsequent amendments can be viewed online at www.faa.gov/air_traffic/publications/.

FOR FURTHER INFORMATION CONTACT: Bryantjay T. Toves, Federal Aviation Administration, Western Service Center, Operations Support Group, 2200 S 216th Street, Des Moines, WA 98198; telephone (206) 231-3465.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish a Class D airspace and modify Class E airspace to support VFR and IFR operations at Bend Municipal Airport, Bend, OR.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the Northwest Mountain Regional Office of the Federal Aviation Administration, Air Traffic Organization, Western Service Center, Operations Support Group, 2200 S 216th Street, Des Moines, WA 98198.

Incorporation by Reference

Class D, E2, E4, and E5 airspace designations are published in paragraphs 5000, 6002, 6004, and 6005, respectively, of FAA Order JO 7400.11, Airspace Designations and Reporting Points, which is incorporated by reference in 14 CFR 71.1 on an annual basis. This document proposes to amend the current version of that order, FAA Order JO 7400.11K, dated August 4, 2025 and effective September 15, 2025. These amendments would be published in the next update to FAA Order JO 7400.11. FAA Order JO 7400.11K, which lists Class A, B, C, D, and E airspace areas, air traffic service routes, and reporting points, is publicly available as listed in the ADDRESSES section of this document.

The Proposal

The FAA is proposing an amendment to 14 CFR part 71 that would establish a Class D airspace area designated for an airport, modify the Class E airspace designated as a surface area, modify the Class E airspace area designated as an extension to a Class D or Class E surface area, modify the Class E airspace area extending upward from 700 feet above the surface, and remove the Class E airspace extending upward from 1,200 feet above the surface at Bend Municipal Airport, Bend, OR.

A Class D airspace area would be established at Bend Municipal Airport to support the construction of an airport traffic control tower. The Class D airspace surface area would extend up to and including 6,000 feet mean sea level (2,500 feet above ground level) and be coincident with the Class E airspace area designated as a surface area as proposed below, as similar criteria and justification exists for both areas as proposed.

Bend Municipal Airport's Class E surface area would be expanded to a 4.3-mile radius to better contain the circling areas of aircraft executing the Area Navigation (RNAV) (Global Positioning System [GPS]) Y Runway (RWY) 16, RNAV (GPS) Z RWY 16, RNAV (GPS) RWY 34, and Very High Frequency Omnidirectional Range (VOR) RWY 16 instrument approach procedures (IAP). The southern portion of the Class E surface airspace area would be extended to a 5.6-mile radius to provide further containment of aircraft executing the BEND TWO DEPARTURE (OBSTACLE) procedure from RWY 16 until reaching the base of the next adjacent airspace. Additionally, the Class E surface airspace area would be extended to 5 miles north of the airport to better contain the circling area of aircraft executing the RNAV (GPS) Y RWY 16, RNAV (GPS) Z RWY 16, RNAV (GPS) RWY 34, and the VOR RWY 16 IAPs. Moreover, a northern extension would also adjoin the proposed Class D and Class E surface airspace areas with the Roberts Field Airport designated Class D and E surface areas to create a shared boundary between the airports' surface areas. The area excluded around Pilot Butte Airport, OR, should be reduced by 0.1 miles to provide additional lateral surface area airspace at Bend Municipal Airport to better contain aircraft conducting circling procedures.

The Class E airspace area designated as an extension to a Class D or Class E surface area would be extended approximately 1.8 miles to better contain arriving IFR operations below 1,000 feet above the surface when executing the RNAV (GPS) RWY 34 approach procedure.

To better contain arriving IFR operations when below 1,500 feet above the surface aircraft at Bend Municipal Airport, the eastern portion of the Class E airspace area extending upward from 700 feet above the surface would be reduced by approximately 2.3 miles; the northeastern-most boundary would be extended approximately two miles for aircraft executing the RNAV (GPS) Y RWY 16 approach. Additionally, the southern boundary would be extended approximately 0.6 miles to better contain arriving IFR operations below 1,500 feet above the surface when executing the RNAV (GPS) RWY 34 approach as well as to provide additional containment for aircraft executing the BEND TWO DEPARTURE (OBSTACLE) procedure for RWY 34 until reaching 1,200 feet above the surface.

Finally, the FAA proposes an administrative modification to the airport's legal description. Pilot Butte Airport would be referenced within the Bend Class E surface area airspace legal description and any reference to a “point in space” within the geographic coordinates located on the text header in the legal descriptions.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, “FAA National Environmental Policy Act Implementing Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 5000 Class D Airspace.

* * * * *

ANM OR D Bend, OR [New]

Bend Municipal Airport, OR

(Lat. 44°05′40″ N, long. 121°12′01″ W)

Pilot Butte Airport, OR

(Lat. 44°02′50″ N, long. 121°16′32″ W)

Roberts Field Airport, OR

(Lat. 44°15′15″ N, long. 121°08′60″ W)

That airspace extending upward from the surface to and including 6,000 feet MSL within a 4.3-mile radius of Bend Municipal Airport, within 3.4 miles east and 3.6 miles west of the Bend Municipal Airport's 017° bearing extending to 5 miles north, and within 1.3 miles either side of the Bend Municipal Airport's 184° bearing extending to 5.6 miles south, excluding the Roberts Field Airport Class D airspace and that airspace within a 0.9-mile radius of Pilot Butte Airport. This Class D airspace is effective during the specific dates and times established in advance by a Notice to Airmen. The effective dates and times will thereafter be continuously published in the Chart Supplement.

* * * * *

Paragraph 6002 Class E Airspace Areas Designated as a Surface Area.

* * * * *

ANM OR E2 Bend, OR [Amended]

Bend Municipal Airport, OR

(Lat. 44°05′40″ N, long. 121°12′01″ W)

Pilot Butte Airport, OR

(Lat. 44°02′50″ N, long. 121°16′32″ W)

Roberts Field Airport, OR

(Lat. 44°15′15″ N, long. 121°08′60″ W)

That airspace extending upward from the surface to and including 6,000 feet MSL within a 4.3-mile radius of Bend Municipal Airport, within 3.4 miles east and 3.6 miles west of the Bend Municipal Airport's 017° bearing extending to 5 miles north, and within 1.3 miles on either side of the Bend Municipal Airport's 184° bearing extending to 5.6 miles south, excluding the Roberts Field Airport Class D airspace and that airspace within a 0.9-mile radius of Pilot Butte Airport. This Class E airspace is effective during the specific dates and times established in advance by a Notice to Airmen. The effective dates and times will thereafter be continuously published in the Chart Supplement.

* * * * *

Paragraph 6004 Class E Airspace Areas Designated as an Extension to Class D or Class E Surface Area.

ANM OR E4 Bend, OR [Amended]

Bend Municipal Airport, OR

(Lat. 44°05′40″ N, long. 121°12′01″ W)

That airspace extending upward from the surface within 1.1 miles either side of the airport's 167° bearing extending from its 4.3-mile radius to 8.6 miles south.

* * * * *

Paragraph 6005 Class E Airspace Areas Extending Upward From 700 Feet or More Above the Surface of the Earth.

* * * * *

ANM OR E5 Bend, OR [Amended]

Bend Municipal Airport, OR

(Lat. 44°05′40″ N, long. 121°12′01″ W)

That airspace extending upward from 700 feet above the surface within an area bounded by a line beginning at the airport's 357° bearing at 11 miles, thence to the airport's 041° bearing at 6.5 miles, to the airport's 157° bearing at 9.5 miles, to the airport's 173° bearing at 9.5 miles, to the airport's 238° bearing at 6.5 miles, to the airport's 311° bearing at 9.3 miles, thence to the point of beginning.

* * * * *

Issued in Des Moines, Washington, on February 22, 2026.
B.G. Chew,
Group Manager, Operations Support Group, Western Service Center.

[FR Doc. 2026-04098 Filed 2-27-26; 8:45 am]

BILLING CODE 4910-13-P